DEPARTMENT OF JUSTICE

Notice of Lodging of Proposed Consent Decree Under the Federal Water Pollution Control Act

Notice is hereby given that on June 12, 2009, a proposed Consent Decree was filed with the United States District Court for the District of Nebraska in United States et al. v. City of West Point, et al., No. 08-00293 (D. Neb.). The proposed Consent Decree entered into by the United States, the State of Nebraska, and West Point Dairy Products, LLC resolves the United States' claims against West Point Dairy Products, LLC under Sections 307 and 309 of the Federal Water Pollution Control Act (Clean Water Act) at its West Point, Nebraska facility. Under the terms of the Consent Decree, West Point Dairy Products, LLC shall pay a civil penalty of $75,000 each to the United States and State of Nebraska and dismiss with prejudice its cross-claims against the City of West Point, Nebraska.

The Department of Justice will receive comments relating to the proposed Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States et al. v. City of West Point, et al., DJ Ref. No. 90-5-1-1-09326.

The proposed Agreement may be examined at the Office of the United States Attorney for the District of Nebraska, 487 Federal Building, 100 Centennial Mall North, Lincoln, NE 68508, and at the Environmental Protection Agency, Region 7, 901 N. 5th St., Kansas City, KS 66101. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury.

Maureen Katz,
Assistant Section Chief, Environmental Enforcement Section, Environment and Natural Resources Division.

[FR Doc. E9-15412 Filed 6-29-09; 8:45 am]

BILLING CODE 4410-15-P